DEPARTMENT OF THE INTERIOR

Fish and Wildlife Service

Draft Recovery Plan for the Short-Tailed Albatross (Phoebastria albatrus)

AGENCY: U. S. Fish and Wildlife Service, Interior.

ACTION: Notice of document availability for review and comment.

SUMMARY: We, the U.S. Fish and Wildlife Service, announce the availability of the Draft Recovery Plan for the Short-tailed Albatross (Phoebastria albatrus) for public review and comment.

DATES: Comments on the draft recovery plan must be received on or before December 27, 2005.

ADDRESSES: Copies of the draft recovery plan are available for inspection, by appointment, during normal business hours at the following location: U.S. Fish and Wildlife Service, Anchorage Fish and Wildlife Field Office, 605 W. 4th Avenue, Anchorage, AK 99501 (telephone: 907-271-2888). Requests for copies of the draft recovery plan should be addressed to the Field Supervisor, at the above Service address. An electronic copy of the draft recovery plan is also available at http://endangered.fws.gov/recovery/index.html#plans.

If you wish to comment, you may submit your comments and materials by any one of the following methods:

1. You may submit written comments and information by mail to: Short-tailed Albatross Draft Recovery Plan Comments, U.S. Fish and Wildlife Service, 605 W. 4th Avenue, Anchorage, AK 99501.

2. You may hand-deliver written comments and information to our Anchorage Fish and Wildlife Field Office, 605 W. 4th Avenue, Room G-62.

3. You may fax your comments to 907-271-2786.

4. You may send your comments by electronic mail (e-mail) to STARP_Comments@fws.gov. Please include “Attn: Short-tailed Albatross” in the beginning of your message, and do not use special characters or any form of encryption. Electronic attachments in standard formats (such as .pdf or .doc) are acceptable, but please name the software necessary to open any attachments in formats other than those given above. Also, please include your name and return address in your e-mail message (anonymous comments will not be considered). If you do not receive a confirmation from the system that we have received your e-mail message, please submit your comments in writing using one of the alternate methods described above. In the event that our internet connection is not functional, please submit your comments by the alternate methods mentioned above.

All comments and materials received will be available for public inspection, by appointment, during normal business hours at our Anchorage Fish and Wildlife Field Office at the above address.

FOR FURTHER INFORMATION CONTACT: Judy Jacobs, U. S. Fish and Wildlife Biologist, at the above Service address.

SUPPLEMENTARY INFORMATION:

Background

Restoring endangered or threatened animals and plants to the point where they are again secure, self-sustaining members of their ecosystems is a primary goal of our endangered species program. Recovery planning is an integral component of endangered species conservation. Recovery plans describe actions considered necessary for the conservation and recovery of the species, establish criteria for downlisting or delisting them, and estimate time and costs for implementing the recovery measures needed.

Section 4(f) of the Endangered Species Act, (16 U.S.C. 1531 et seq.) requires that public notice, and an opportunity for public review and comment, be provided during recovery plan development. We will consider all information received during the public comment period on each new or revised recovery plan. Substantive technical comments may result in changes to a recovery plan. Substantive comments regarding recovery plan implementation may not necessarily result in changes to the recovery plans, but will be forwarded to the appropriate Federal agency or other entities so that they can take these comments into account during the course of implementing recovery actions. Individual responses to comments will not be provided.

The short-tailed albatross, the largest of the three North Pacific albatross species, is federally listed as endangered. Prior to its exploitation, the short-tailed albatross was likely the most abundant of the three albatross species in the North Pacific. Millions of these birds were harvested by feather hunters prior to and following the turn of the 20th century, resulting in the near-extirpation of the species by the mid-20th century. Presently, fewer than 2000 short-tailed albatrosses are known to exist.

The short-tailed albatross is known to breed on two remote islands in the western Pacific. Torishima, Japan, where the majority of short-tailed albatrosses breed, is an active volcano. The natural colony site on this island is also susceptible to mud slides and erosion. A smaller colony exists in the Senkaku Islands, southwest of Torishima, where volcanic eruption is not a threat; however, political uncertainty and the potential for habitat alteration exist. Short-tailed albatrosses apparently require remote islands for breeding habitat. They nest in open, treeless areas with low, or no, vegetation. The species also requires nutrient-rich areas of ocean upwelling for their foraging habitat.

The major threat of over-exploitation that led to the species' original endangered status no longer occurs. The Short-tailed Albatross Recovery Team considers small population size, limited number of breeding sites, and potential volcanic eruptions to be the current major threats to the species. Other threats include incidental catch in commercial fisheries, ingestion of plastics, contamination by oil and other pollutants, the potential for competition, predation, or habitat alteration associated with non-native species, and adverse effects related to global climate change.

The international group of experts comprising the Short-tailed Albatross Recovery Team has unanimously agreed that establishment of additional colonies on safe (i.e. not subject to volcanic activity and protected) sites will be a recovery prerequisite. Downlisting to threatened may be considered when: (1) The total breeding population of short-tailed albatrosses reaches a minimum of 750 pairs; and (2) the 3-year running average growth rate of the population as a whole is ≥6 percent for ≥7 years; and (3) at least three successful breeding colonies (>5 breeding pairs each) exist, at least two of which occupy non-volcanic (or extinct volcanic) islands.

Delisting of the short-tailed albatross may be considered when: (1) The total breeding population reaches a minimum of 1000 pairs; and (2) the 3-year running average growth rate of the population as a whole is ≥6 percent for ≥7 years; and (3) a total of at least 250 breeding pairs exist on at least 2 non-volcanic islands; and (4) a minimum of 10 percent of these (i.e. ≥25 pairs) occur on a site or sites other than the Senkaku Islands. In addition, a post-delisting monitoring plan and agreement to continue post-delisting monitoring must be in place and ready for implementation at the time of delisting. Monitoring populations following delisting will verify the ongoing recovery and conservation of the species and provide a means of assessing the continuing effectiveness of management actions.

Public Comments Solicited

Our practice is to make comments, including names and home addresses of respondents, available for public review during regular business hours. Individual respondents may request that we withhold their home address, which we will honor to the extent allowable by law. If you wish us to withhold your name or address, you must state this request prominently at the beginning of your comments. However, we will not consider anonymous comments. To the extent consistent with applicable law, we will make all submissions from organizations or businesses, and from individuals identifying themselves as representatives or officials of organizations or businesses, available for public inspection in their entirety.

Authority

The authority for this action is section 4(f) of the Endangered Species Act, 16 U.S.C. 1533(f).

Dated: October 19, 2005.
Rowan Gould,
Regional Director, Region 7, U.S. Fish and Wildlife Service.

[FR Doc. 05-21430 Filed 10-26-05; 8:45 am]

BILLING CODE 4310-55-P